DEPARTMENT OF DEFENSE

Department of the Army

[Docket ID: USA-2014-0029]

Proposed Collection; Comment Request

AGENCY: Office of the Deputy Chief of Staff, G-1 Army Resiliency Directorate, SHARP, DOD.

ACTION: Notice.

SUMMARY: In compliance with the Paperwork Reduction Act of 1995, the Office of the Deputy Chief of Staff, G-1 Army Resiliency Directorate, DoD, SHARP announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by October 6, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Deputy Chief of Staff, G-1 Army Resiliency Directorate, DoD, SHARP, ATTN: Robert Mitchell, Arlington, VA 22202, or call G-1 Army Resiliency Directorate, DoD, SHARP, at 1-855-666-0890.

SUPPLEMENTARY INFORMATION:

Title; Associated Form; and OMB Number: Sexual Assault Response Coordinators (SARC); DD Form 2910; OMB Control Number 0702-XXXX.

Needs and Uses: The information collection requirement is necessary to facilitate the reporting requirements found in 10 U.S.C 3013, Sexual Assault Prevention and Response Program Procedures. Data is collected via a web based case reporting tool (SHARP ICRS) that collects relevant harassment data and maintains relevant assault data regarding the lifecycle of sexual harassment and assault cases for cases involving victims and/or alleged offenders who are members of the Army (either the victim and/or alleged offender(s) must be a uniformed member of the Army Forces, and/or DoD Civilian, and/or DoD Contractor personnel, and either the victim and/or alleged offender(s) must serve or accompany our armed forces as integral parts of the unified mission). Data is used to conduct case and business management and aggregate data is used to meet congressional reporting requirements.

Affected Public: Individuals or Households.

Annual Burden Hours: 2,400 hours.

Number of Respondents: 2,400.

Responses per Respondent: 1.

Average Burden per Response: 60 minutes.

Frequency: On occasion.

Data is collected by trained Victim Advocates (VAs) and/or Sexual Assault Response Coordinators (SARCs) who have completed the NOVA credentialing process, including eighty hour training. DD Form 2910 is used for initial data collection and data is then input into to SHARP ICRS (harassment) or DSAID (assault).

Dated: August 1, 2014.
Aaron Siegel,
Alternate OSD Federal Register Liaison Officer, Department of Defense.

[FR Doc. 2014-18546 Filed 8-5-14; 8:45 am]

BILLING CODE 5001-06-P